OFFICE OF PERSONNEL MANAGEMENT

5 CFR Part 532

RIN 3206-AM78

Prevailing Rate Systems; North American Industry Classification System Based Federal Wage System Wage Surveys

AGENCY: U.S. Office of Personnel Management.

ACTION: Correcting amendment.

SUMMARY: The U.S. Office of Personnel Management (OPM) published a final rule in the Federal Register on September 23, 2013 (78 FR 58153), updating the 2007 North American Industry Classification System (NAICS) codes used in Federal Wage System wage survey industry regulations with the 2012 NAICS revisions published by the Office of Management and Budget. The final rule inadvertently omitted deleting two NAICS codes from the list of required NAICS codes in the Electronics specialized industry in 5 CFR 532.313. This document corrects this error.

DATES: Effective Date: April 15, 2014.

FOR FURTHER INFORMATION CONTACT: Madeline Gonzalez, by telephone at (202) 606-2838 or by email at pay-performance-policy@opm.gov.

SUPPLEMENTARY INFORMATION: In a final rule published in the Federal Register on September 23, 2013 (78 FR 58153), OPM inadvertently omitted deleting two NAICS codes from the list of required NAICS codes in the Electronics specialized industry in 5 CFR 532.313.

In the supplementary information section of the proposed rule published on March 26, 2013 (78 FR 18252), OPM proposed to delete NAICS codes 334414 (Electronic capacitor manufacturing) and 334415 (Electronic resistor manufacturing) from the list of required NAICS codes in the Electronics specialized industry in 5 CFR 532.313, but inadvertently failed to include the deletions in the regulatory text section. This document corrects the error.

List of Subjects in 5 CFR Part 532

Administrative practice and procedure, Freedom of information, Government employees, Reporting and recordkeeping requirements, Wages.

U.S. Office of Personnel Management.
Brenda L. Roberts,
Acting Deputy Associate Director for Pay and Leave.

Accordingly, the U.S. Office of Personnel Management is correcting 5 CFR part 532 as follows:

PART 532—PREVAILING RATE SYSTEMS

1. The authority citation for part 532 continues to read as follows:

Authority: 5 U.S.C. 5343, 5346; § 532.707 also issued under 5 U.S.C. 552.

§ 532.313 [Amended]

2. In § 532.313(a), remove NAICS codes “334414” and “334415” in the first column and “Electronic capacitor manufacturing” and “Electronic resistor manufacturing” in the second column from the list of required NAICS codes for the Electronics Specialized Industry.

[FR Doc. 2014-08501 Filed 4-14-14; 8:45 am]

BILLING CODE 6325-39-P